DEPARTMENT OF TRANSPORTATION

Federal Transit Administration

[FTA Docket No. FRA-2011-0067]

Notice of Request for the Revision of Currently Approved Information Collection

AGENCY: Federal Transit Administration, DOT.

ACTION: Notice of request for comments.

SUMMARY: In accordance with the Paperwork Reduction Act of 1995, this notice announces the intention of the Federal Transit Administration (FTA) to request the Office of Management and Budget (OMB) to approve the revision of the currently approved information collection: 49 U.S.C. 5335(a) and (b) National Transit Database (NTD).

DATES: Comments must be submitted before January 6, 2012.

ADDRESSES: To ensure that your comments are not entered more than once into the docket, submit comments identified by the docket number by only one of the following methods:

1. Web site: www.regulations.gov. Follow the instructions for submitting comments on the U.S. Government electronic docket site. (Note: The U.S. Department of Transportation's (DOT's) electronic docket is no longer accepting electronic comments.) All electronic submissions must be made to the U.S. Government electronic docket site at www.regulations.gov. Commenters should follow the directions below for mailed and hand-delivered comments.

2. Fax: 202-366-7951.

3. Mail: U.S. Department of Transportation, 1200 New Jersey Avenue SE., Docket Operations, M-30, West Building, Ground Floor, Room W12-140, Washington, DC 20590-0001.

4. Hand Delivery: U.S. Department of Transportation, 1200 New Jersey Avenue SE., Docket Operations, M-30, West Building, Ground Floor, Room W12-140, Washington, DC 20590-0001 between 9 a.m. and 5 p.m., Monday through Friday, except federal holidays.

Instructions: You must include the agency name and docket number for this notice at the beginning of your comments. Submit two copies of your comments if you submit them by mail. For confirmation that FTA has received your comments, include a self-addressed stamped postcard. Note that all comments received, including any personal information, will be posted and will be available to Internet users, without change, to www.regulations.gov. You may review DOT's complete Privacy Act Statement in the Federal Register published April 11, 2000, (65 FR 19477), or you may visit www.regulations.gov. Docket: For access to the docket to read background documents and comments received, go to www.regulations.gov at any time. Background documents and comments received may also be viewed at the U.S. Department of Transportation, 1200 New Jersey Avenue SE., Docket Operations, M-30, West Building, Ground Floor, Room W12-140, Washington, DC 20590-0001 between 9 a.m. and 5 p.m., Monday through Friday, except federal holidays.

FOR FURTHER INFORMATION CONTACT: John D. Giorgis, National Transit Database Program Manager, FTA Office of Budget and Policy, (202) 366-5430, or email: john.giorgis@dot.gov.

SUPPLEMENTARY INFORMATION: Interested parties are invited to send comments regarding any aspect of this information collection, including: (1) The necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

Title: 49 U.S.C. 5335(a) and (b) National Transit Database.

(OMB Number: 2132-0008).

Background: 49 U.S.C. 5335(a) and (b) requires the Secretary of Transportation to maintain a reporting system, using a uniform system of accounts, to collect financial and operating information from the nation's public transportation systems. Congress created the NTD to be the repository of transit data for the nation to support public transportation service planning. FTA has established the NTD to meet these requirements, and has collected data for over 30 years. FTA continues to seek ways to reduce the burden of NTD reporting, most recently introducing its new Sampling Manual in 2010 to reduce the burden of passenger mile sampling and introducing its new Small Systems Waiver in 2011 to reduce the reporting burden on small transit systems.

The NTD is comprised of four modules, Rural, Annual, Monthly, and Safety & Security.

NTD Rural Module: State DOTs and tribal governments participating in the Tribal Transit Program.

Estimated Annual Burden: Currently FTA receives reports from 54 State and Territorial DOTs, and from 56 Tribal Transit grant recipients. Combined, these States and Tribes report on behalf of approximately 1,450 subrecipients from FTA's Rural (Section 5311) Formula Program. For each subrecipient, the State or Tribe provides identifying information, sources of operating funds, sources of capital funds, vehicle revenue miles, vehicle revenue hours, and unlinked passenger trips. Additionally, a revenue vehicle inventory is reported, as well as total fatalities, injuries, and safety incidents for the year. FTA estimates that it takes approximately 20 hours to report on behalf of each subrecipient, including the time needed for the subrecipient to gather the information and report it to its State DOT, the time for the State DOT to assemble the data and submit it to FTA, and the time to respond to validation questions from FTA about the data.

Estimated Total Annual Burden: 29,000 hours.

Frequency: Annual reports.

NTD Annual Module—Small Systems Waiver: FTA expects about 300 transit systems with 30 or fewer vehicles to claim a Small Systems Waiver.

Estimated Annual Burden: FTA provides reduced reporting requirements to urbanized area transit systems with 30 or fewer vehicles. These systems are exempt from sampling for passenger miles and report only summary financial and operating statistics compared to full reporters in urbanized areas, similar to what is required of the rural subrecipients. Additionally, they also report contact information, funding allocation information, a revenue vehicle inventory, the number of stations and maintenance facilities, and total injuries, fatalities, and safety incidents. The reports are also required to be reviewed by an auditor and certified by the CEO. Systems with this waiver are also exempt from the Monthly and Safety & Security Modules. FTA estimates that completing a report for a Small Systems Waiver requires approximately 27 hours, including time to assemble the information and respond to validation questions from FTA about the report.

Estimated Total Annual Urban Burden: 8,100 hours.

Frequency: Annually.

NTD Annual Module—Full Reports: FTA expects about 400 transit systems to file complete reports, including 10 reports that represent a consolidated report from numerous small systems.

Estimated Annual Burden: The Full Report to the Annual Module is comprehensive. Basic contact information, as well as information on subrecipients and purchased transportation contracts must be provided. Sources of funds for operating expenses and capital expenses must be provided, as well as detailed operating and capital expenses for each mode by function and object class. Key service data collected includes vehicle revenue miles, vehicle revenue hours, unlinked passenger trips, and passenger miles traveled; these must be provided by average weekday, average Saturday, average Sunday, and as an annual total. Most systems that do not inherently collect passenger mile information (such as a ferryboat or commuter rail) must conduct random sampling for passenger mile information. Large systems with more than 100 vehicles are required to sample for passenger miles every year, whereas smaller systems are only required to sample every third year. A comprehensive revenue vehicle inventory is collected, as well as information on fixed guideway mileage, passenger stations, maintenance facilities, fuel consumption, employee hours, and maintenance breakdowns. Reports are also required to be reviewed by an auditor and certified by the system CEO. Approximately 100 large systems are required to sample for passenger miles each year, while approximately 300 small systems are able to sample every three years. FTA estimates that it takes approximately 340 hours per year to sample for passenger miles, which is amortized over three years for small systems. FTA estimates that completing the remaining financial, operating, resource, and capital asset information requires approximately 200 hours per year per transit system, including gathering the information, completing the forms, and responding to validation questions.

Estimated Total Burden: 210,000 hours.

Frequency: Annually.

NTD Monthly Module: FTA expects about 450 transit systems to report to the Monthly Module.

Estimated Annual Burden: Each month, vehicle revenue miles, vehicle revenue hours, unlinked passenger trips, and vehicles operated in maximum service are submitted to the Monthly Module. FTA estimates that it takes approximately 4 hours each month for each system to report the data, including collecting and assembling the data for each mode, filling out the form, and responding to any validation questions in regards to the data.

Estimated Total Annual Urban Burden: 19,200 hours.

Frequency: Monthly.

NTD Safety & Security Module: FTA expects about 450 transit systems to report to the Safety & Security Module.

Estimated Annual Burden: Each system provides an annual report on the total number of security personnel, and an annual CEO certification of the safety data. Each month, systems provide a summary report of all minor fires and all incidents resulting in single-person injuries due to slips, falls, or electrical shocks. Additionally, systems must provide a detailed report within 30 days of any incident involving one or more fatalities, one or more injuries, or total property damage in excess of $25,000. FTA currently receives about 5,000 major incident reports per year, and estimates that it takes on average about 2 hours to collect data for each incident, enter it into the NTD, and respond to any validation question. Additionally, FTA estimates that each of the 450 full reporters spend on average one hour each month completing the minor incident summary reports.

Estimated Total Annual Urban Burden: 14,800 hours.

Frequency: Monthly.

Total Annual NTD Burden: 281,100 hours.

Issued: November 2, 2011.
Ann M. Linnertz,
Associate Administrator for Administration.

[FR Doc. 2011-28789 Filed 11-4-11; 8:45 am]

BILLING CODE 4910-57-P